DEPARTMENT OF JUSTICE

Drug Enforcement Administration

Importer of Controlled Substances; Notice of Registration.

By Notice dated June 8, 2000, published in the Federal Register on June 22, 2000,, (65 FR 38860), Radian International LLC, 14050 Summit Drive #121, P.O. Box 201088, Austin, Texas 78720-1088, made applicat4ion by renewal to the Drug Enforcement Administration to be registered as an importer of the basic classes of controlled substances listed below:

Durg | Schedule
Cathionone (1235) | I
Methcathinone (1237) | I
N-Ethylamphetamine (1475) | I
Gamma hydroxybutyric acid (2010) | I
Ibogaine (7260) | I
Tetrahydrocannabinols (7370) | I
Mescaline (7381) | I
4-Bromo-2, 5-dimethoxyamphetamine | I
4-Bromo-2, 5-dimethoxyphenethylamine (7392) | I
4-Methyl-2, 5-dimethoxyamphetamine (7395) | I
2, 5-Dimethoxyamphetamine (7396) | I
3,4-Methylenedioxyamphetamine (7400) | I
3,4-Methylenedioxy-N-ethylamphetamine (7404) | I
3,4-Methylenedioxymetham-phetamine (7405) | I
4-Methoxyamphetamine (7411) | I
Psilocybin (7437) | I
Psilocyn (7438) | I
Etorphine (except HCl) (9056) | I
Heroin (9200) | I
Pholcodine (9314) | I
Amphetamine (1100) | II
Methamphetamine (1105) | II
Amobarbital (2125) | II
Pentobarbital (2270) | II
Cocaine (9041) | II
Codeine (9050) | II
Dihydrocodenine (9120) | II
Oxycodone (9143) | II
Hydromorphone (9150) | II
Benzoylecgonine (9180) | II
Ethylmorphine (9190) | II
Meperidine (9230) | II
Methadone (9250) | II
Dextropropoxyphene, bulk (non-dosage forms) 99273) | II
Morphine (9300) | II
Thebaine (9333) | II
Levo-alphacetylmethadol (9648) | II
Oxymorphone (9652) | II

The firm plans to import small quantities of the listed controlled substances for the manufacture of analytical reference standards.

No comments or objections have been received. DEA has considered the factors in Title 21, United States Code, Section 823(a) and 952(a), and determined that the registration of Radian International LLC is consistent with the public interest and with United States obligations under international treaties, conventions, or protocols in effect on May 1, 1971, at this time. DEA has investigated Radian International LLC on a regular basis to ensure that the company's continued registration is consistent with the public interest. These investigations have included inspection and testing of the company's physical security systems, audits of the company's records, verification of the company's compliance with state and local laws and a review of the company's background and history. Therefore, pursuant to Section 1008(a) of the Controlled Substances Import and Export Act and in accordance with Title 21, Code of Federal Regulations, § 1301.34, the above firm is granted registration as an importer of the basic classes of controlled substances listed above.

Dated: August 21, 2000.
John H. King,
Deputy Assistant Administrator, Office of Diversion Control, Drug Enforcement Administration.

[FR Doc. 00-22687 Filed 9-5-00; 8:45 am]

BILLING CODE 4410-09-M